DEPARTMENT OF THE INTERIOR

Geological Survey

[WBS Number GX21EF00PMELE00]

Agency Notice of Webinar; Announcement of U.S. Geological Survey (USGS), National Geospatial Program 3D Elevation Program FY21 Informational Training Webinar in Preparation for the Upcoming Release of the USGS Broad Agency Announcement for 3D Elevation Program

AGENCY: U.S. Geological Survey, Department of the Interior.

ACTION: Notice.

SUMMARY: The U.S. Geological Survey is proposing a program-sponsored informational training webinar to provide scripted training to prospective applicants. This 3D Elevation Program (3DEP) training has been developed to encourage applications from federal agencies, states, tribes, private industry and communities across the nation to support the acquisition of high-quality elevation data and a wide range of other three-dimensional representations of the Nation's natural and constructed features.

DATES: The USGS Broad Agency Announcement (BAA) for 3DEP FY21 Informational Training Webinar will be held on August 11, 2021 1:00-2:30 p.m. ET.

ADDRESSES: Informational training webinar information is available at https://usgs.gov/3DEP/BAA.

FOR FURTHER INFORMATION CONTACT: For further information about this webinar contact Diana Thunen by email at gs_baa@usgs.gov, or by telephone at (303) 202-4279.

SUPPLEMENTARY INFORMATION: The goal of the 3DEP is to complete acquisition of nationwide lidar (IfSAR in AK) by 2023 to provide the first ever national baseline of consistent high-resolution elevation data—both bare earth and 3D point clouds—in a timeframe of less than a decade. The 3DEP initiative is based on the results of the National Enhanced Elevation Assessment (NEEA), which indicated an optimal benefit to cost ratio for Quality Level 2 (QL2) data collected over 8-years to complete national coverage. The implementation model for 3DEP is based on multi-agency partnership funding for data acquisition, with the USGS acting in a lead program management role to facilitate planning and acquisition for the broader community through the use of government contracts and partnership agreements. The annual BAA is a competitive solicitation issued to facilitate the collection of lidar and derived elevation data for the 3DEP. It has been included in the annual Catalog of Domestic Federal Assistance under USGS 15.8 17. Federal agencies, state and local governments, tribes, academic institutions, and the private sector are eligible to submit BAA proposals. The 3DEP informational training webinar will introduce this opportunity to the wide array of prospective applicants and provide a summary of the BAA application procedures. Advanced Registration is required to attend the webinar. Webinar materials will be posted to usgs.gov/3DEP/BAA after the event.

David L. Saghy,
Deputy Director, National Geospatial Program.

[FR Doc. 2021-15224 Filed 7-16-21; 8:45 am]

BILLING CODE P